DEPARTMENT OF AGRICULTURE

Forest Service

San Juan National Forest Resource Advisory Committee

AGENCY: Forest Service, USDA.

ACTION: Notice of meeting.

SUMMARY: The San Juan National Forest Resource Advisory Council (RAC) will meet in Durango, Colorado. The committee is authorized under the Secure Rural Schools and Community Self-Determination Act (Pub. L. 112-141) (the Act) and operates in compliance with the Federal Advisory Committee Act. The purpose of the committee is to improve collaborative relationships and to provide advice and recommendations to the Forest Service concerning projects and funding consistent with Title II of the Act. The meeting is open to the public. The purpose of the meeting is to review and recommend projects authorized under Title II of the Act.

DATES: The meeting will be held September 21, 2012, 9 a.m.-4 p.m.

ADDRESSES: The meeting will be held at the San Juan Public Lands Center, 15 Burnett Court, Durango, Colorado in the Sonoran Meeting Rooms. Committee members will be allowed to teleconference into the meeting to participate, if needed. The public is invited to attend the meeting in person.

Written comments may be submitted as described under Supplementary Information. All comments, including names and addresses when provided, are placed in the record and are available for public inspection and copying. The public may inspect comments received at http://www.fs.usda.gov/sanjuan/ or the Public Reading Room, San Juan Public Lands Center Building, 15 Burnett Court, Durango, Colorado. Please call ahead to 970-247-4874 to facilitate entry into the building to view comments.

FOR FURTHER INFORMATION CONTACT: Ann Bond, San Juan National Forest RAC Coordinator, 970-385-1219 or email: abond@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: The purpose of the meeting is to gather the Committee members together to monitor ongoing projects, elect a new committee Chairperson, review project proposals and recommend allocations of Title II funds within Archuleta, Dolores, La Plata, and Montezuma counties, Colorado and possibly additional counties depending on their election to participate under Title II. Anyone who would like to bring related matters to the attention of the committee may file written statements with the committee staff before or after the meeting. The agenda will include time for people to make oral statements of three minutes or less. Individuals wishing to make an oral statement should request in writing by September 14, 2012 to be scheduled on the agenda. Written comments and requests for time for oral comments must be sent to Attn: San Juan National Forest RAC, 15 Burnett Court, Durango, CO 81301, or by email to abond@fs.fed.us, or via facsimile to Attn: Ann Bond, RAC Coordinator at 970-375-2331. A summary of the meeting will be posted at at http://www.fs.usda.gov/sanjuan/ within 21 days of the meeting.

Meeting Accommodations: If you are a person requiring resonable accomodation, please make requests in advance for sign language interpreting, assistive listening devices or other reasonable accomodation for access to the facility or procedings by contacting the person listed under For Further Information Contact. All reasonable accommodation requests are managed on a case by case basis. Attendees in wheelchairs or other special needs should enter the front of the building through the Visitor Information area.

Dated: August 2, 2012.
Mark W. Stiles,
Forest Supervisor/San Juan National Forest, San Juan National Forest RAC DFO.

[FR Doc. 2012-19372 Filed 8-7-12; 8:45 am]

BILLING CODE 3410-11-P